DEPARTMENT OF EDUCATION

Accrediting Agencies Currently Undergoing Review for the Purpose of Recognition by the U.S. Secretary of Education

AGENCY: Accreditation Group, Office of Postsecondary Education, U.S. Department of Education.

ACTION: Call for written third-party comments.

SUMMARY: This notice provides information to members of the public on submitting written comments for accrediting agencies currently undergoing review for the purpose of recognition by the U.S. Secretary of Education.

FOR FURTHER INFORMATION CONTACT: Elizabeth Daggett, Director, Accreditation Group, Office of Postsecondary Education, U.S. Department of Education, 400 Maryland Avenue SW, fifth floor, Washington, DC 20202, telephone: (202) 453-7615, or email: elizabeth.daggett@ed.gov.

SUPPLEMENTARY INFORMATION: This request for written third-party comments concerning the performance of accrediting agencies under review by the Secretary of Education is required by Section 496(n)(1)(A) of the Higher Education Act of 1965, as amended, 20 U.S.C. §§ 1001, et seq. (HEA), and pertains to the summer 2026 meeting of the National Advisory Committee on Institutional Quality and Integrity (NACIQI). The meeting date and location have not been determined but will be announced in a later Federal Register notice. In addition, a later Federal Register notice will describe how to register to provide oral comments at the meeting. Written comments submitted in response to this Federal Register notice must be submitted to the mailbox identified below by May 8, 2025. Do not submit written comments in response to this Federal Register notice directly to Department officials or to NACIQI members.

Agencies Under Review and Evaluation: The Department requests written comments from the public on the following accrediting agencies, which are currently undergoing review and evaluation by the Accreditation Group, and which will be reviewed at the summer 2026 NACIQI meeting.

The agencies are listed by the type of application each agency has submitted. Please note, each agency's current scope of recognition is indicated below. If any agency requested to expand its scope of recognition, both the current scope of recognition and the requested scope of recognition are identified below.

Applications for Renewal of Recognition

1. American Bar Association, Council of the Section of Legal Education and Admissions to the Bar. Scope of Recognition: The accreditation of programs in legal education that lead to the first professional degree in law, including those offered via distance education, as well as freestanding law schools offering such programs. Geographic Area of Accrediting Activities: The United States.

2. Accrediting Bureau of Health Education Schools. Scope of Recognition: The accreditation of private, postsecondary institutions offering predominantly allied health education programs leading to a certificate, diploma, and degree at the level of the Associate of Applied Science, Associate of Occupational Science, Academic Associate, Baccalaureate and Master's; including those offered via distance education and the programmatic accreditation of medical assisting, medical laboratory technology, and surgical technology programs, through the Associate degree, including those offered via distance education. The scope extends to the Substantive Change Committee, jointly with the Commission for decisions on substantive change. Geographic Area of Accrediting Activities: The United States.

3. Accreditation Commission for Acupuncture and Herbal Medicine. Scope of Recognition: The accreditation and preaccreditation (“Candidacy”) of professional non-degree and graduate degree programs, including professional doctoral programs, in the field of acupuncture and/or Oriental medicine, as well as freestanding institutions and colleges of acupuncture and/or Oriental medicine that offer such programs, including programs offered via distance education. Geographic Area of Accrediting Activities: The United States.

4. American Osteopathic Association, Commission on Osteopathic College Accreditation. Scope of Recognition: The accreditation and preaccreditation (“Provisional Accreditation”) of freestanding institutions of osteopathic medicine and of osteopathic medical programs leading to the degree of Doctor of Osteopathy or Doctor of Osteopathic Medicine. Geographic Area of Accrediting Activities: The United States.

5. American Psychological Association, Commission on Accreditation. Scope of Recognition: The accreditation of doctoral programs in clinical, counseling, school and combined professional-scientific psychology; doctoral internship programs in health service psychology; and postdoctoral residency programs in health service psychology; and the preaccreditation of doctoral internship programs in health service psychology; and postdoctoral residency programs in health service psychology. Geographic Area of Accrediting Activities: The United States. Requested Scope of Recognition: The preaccreditation and accreditation of master's programs and doctoral programs in clinical, counseling, school psychology, (and combinations of two or more of these practice areas); doctoral internship programs in health service psychology; and postdoctoral residency programs in health service psychology, including programs that use distance education and traditional educational methods. Geographic Area of Accrediting Activities: The United States.

6. Commission on Accrediting of the Association of Theological Schools. Scope of Recognition: The accreditation of theological schools and seminaries, as well as schools or programs that are parts of colleges or universities, offering post baccalaureate degrees in professional and academic theological education, including delivery via distance education. Geographic Area of Accrediting Activities: The United States. Requested Scope of Recognition: The accreditation of theological schools and seminaries, as well as schools or programs that are parts of colleges or universities, offering post baccalaureate degrees in professional and academic theological education, including delivery via distance education and direct assessment. Geographic Area of Accrediting Activities: The United States.

7. Council on Occupational Education. Scope of Recognition: The accreditation and preaccreditation (“Candidacy Status”) of postsecondary occupational education institutions offering non-degree and applied associate degree programs in specific career and technical education fields, including institutions that offer programs via distance education. Geographic Area of Accrediting Activities: The United States.

8. National Nurse Practitioner Residency and Fellowship Training Consortium. Scope of Recognition: The accreditation of nurse practitioner (NP) postgraduate residency and fellowship training programs. This recognition also extends to the agency's Appeals Panel. Geographic Area of Accrediting Activities: The United States.

9. Southern Association of Colleges and Schools, Commission on Colleges. Scope of Recognition: The accreditation and preaccreditation (“Candidate for Accreditation”) of degree-granting institutions of higher education including the accreditation of educational programs offered via distance education, correspondence courses, and direct assessment within these institutions. The accreditation status of these institutions and their recognition extends to the SACSCOC Board of Trustees, Executive Council, and the Appeals Committee of the Collegiate College Delegate Assembly on cases of initial candidacy or initial accreditation and for continued accreditation or candidacy. Geographic Area of Accrediting Activities: The United States.

10. Transnational Association of Christian Colleges and Schools, Accreditation Commission. Scope of Recognition: The accreditation and preaccreditation (“Candidate” status) of Christian postsecondary institutions in the United States that offer certificates, diplomas, and associate, baccalaureate, and graduate degrees, including institutions that offer distance education. Geographic Area of Accrediting Activities: The United States.

Compliance Report

1. Kansas State Board of Nursing. Scope of Recognition: State agency for the approval of nurse education. The compliance report includes findings of noncompliance with the criterion found at 34 FR 587644 (Jan. 16, 1969) identified in the May 28, 2024, letter from the senior Department official following the February 27, 2024, NACIQI meeting, available at: https://surveys.ope.ed.gov/erecognition/#/public-documents.

Submission of Written Comments Regarding a Specific Accrediting Agency or State Agency Under Review

Written comments in response to this Federal Register notice about the recognition of any of the accrediting agencies or State agency listed above must be received by May 8, 2025, in the ThirdPartyComments@ed.gov mailbox. Please include in the subject line “Written Comments: (agency name).” The electronic mail (email) must include the name(s), title, organization/affiliation, mailing address, email address, and telephone number of the person(s) making the comment. Comments should be submitted as a PDF, Microsoft Word document, or in a medium compatible with Microsoft Word that is attached to an email or provided in the body of an email message. Comments about an agency that has submitted a compliance report scheduled for review by the Department must relate to the criteria for recognition cited in the senior Department official's letter that requested the report, or in the Secretary's appeal decision, if any. Comments about an agency that has submitted a petition for initial recognition, renewal of recognition, or an expansion of scope must relate to the agency's compliance with the Criteria for the recognition of Accrediting Agencies or the Criteria for the recognition of State Agencies, which are available at: https://www2.ed.gov/admins/finaid/accred/index.html.

Only written materials submitted by the deadline to the email address listed in this notice, and in accordance with these instructions, become part of the official record concerning agencies scheduled for review and are considered by the Department and NACIQI in their deliberations. Comments about the agencies listed in this Federal Register notice may also be provided orally at the summer 2026 NACIQI meeting, which has not yet been scheduled, but which will be announced in a future Federal Register notice.

Electronic Access to this Document: The official version of this document is the document published in the Federal Register. Free internet access to the official edition of the Federal Register and the Code of Federal Regulations is available via the Federal Digital System at: www.gpo.gov/fdsys. At this site, you can view this document, as well as all other documents of the Department published in the Federal Register, in text or Adobe Portable Document Format (PDF). To use PDF, you must have Adobe Acrobat Reader, which is available free at the site. You may also access documents of the Department published in the Federal Register by using the article search feature at: www.federalregister.gov. Specifically, through the advanced search feature at this site, you can limit your search to documents published by the Department.

Authority: 20 U.S.C. 1099b; 20 U.S.C. 1011c.

James Bergeron,
Acting Under Secretary (Delegated the authority to perform the functions and duties of the Assistant Secretary for Postsecondary Education).

[FR Doc. 2025-05853 Filed 4-3-25; 8:45 am]

BILLING CODE 4000-01-P